DEPARTMENT OF JUSTICE

Notice of Lodging of a Consent Decree Under the Clean Air Act

Under 28 C.F.R. 50.7, notice is hereby given that on January 22, 2004, a proposed Consent Decree in United States v. Wal-Mart Stores, Inc, Sam's West, Inc. and Sam's East, Inc., Civil Action No. 04-0086-CV-SOW was lodged with the United States District Court for the Western District of Missouri.

The complaint alleges twenty instances where Sam's Club violated the regulations promulgated under sections 608 and 609 of the Clean Air Act by selling class I or class II refrigerant to people who are not certified technicians to maintain, service, repair, or dispose of appliances that use refrigerant. The Consent Decree settles these claims in exchange for payment of a civil penalty of $400,000 in addition to injunctive relief under which Sam's Club and Wal-Mart have agreed to cease all sales of refrigerants containing class I and class II substances.

The Department of Justice will receive for a period of thirty (30) days from the date of this publication comments relating to the Consent Decree. Comments should be addressed to the Assistant Attorney General, Environment and National Resources Division, P.O. Box 7611, U.S. Department of Justice, Washington, DC 20044-7611, and should refer to U.S. v. Wal-Mart, Inc. et al. Consent Decree, D.J. Ref. 90-5-2-1-06456.

The Consent Decree may be examined at the Office of the United States Attorney, Western District of Missouri Charles Evans Whittaker Courthouse, 400 East 9th Street, Fifth Floor Kansas City, Missouri 64106, Telephone: (816) 426-3122 and at U.S. EPA Region VII, 901 N. 5th Street, Kansas City, KS 66101, (913) 551-7471. During the public comment period, the Consent Decree may also be examined on the following Department of Justice web site, http:/www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6 (25 cents per page reproduction cost) payable to the U.S. Treasury.

Robert Maher,
Assistant Chief, Environmental Enforcement Section, Environment and Natural Resources Division.

[FR Doc. 04-2319 Filed 2-4-04; 8:45 am]

BILLING CODE 4410-15-M